DEPARTMENT OF HOUSING AND URBAN DEVELOPMENT

[Docket No. FR-5923-N-03]

Notice of a Federal Advisory Committee Meeting: Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC. The teleconference meeting is open to the public. The agenda provides an opportunity for citizens to comment on the business before the MHCC.

DATES: The teleconference meeting will be held on August 9, 2016, 10:00 a.m. to 5:00 p.m. Eastern Daylight Time (EDT). The teleconference numbers are: US toll-free: 1-866-813-5287. Participant Code: 4325433. Webinar: https://zoom.us/j/350303292; Meeting ID: 350 303 292.

FOR FURTHER INFORMATION CONTACT: Pamela Beck Danner, Administrator and Designated Federal Official (DFO), Department of Housing and Urban Development, Office of Manufactured Housing Programs, 451 7th Street SW., Room 9168, Washington, DC 20410, telephone (202) 708-6423 (this is not a toll-free number). Persons who have difficulty hearing or speaking may access this number via TTY by calling the toll-free Federal Information Relay Service at 800-877-8339.

SUPPLEMENTARY INFORMATION: Notice of this meeting provided in accordance with the Federal Advisory Committee Act, 5. U.S.C. App. 10(a)(2) through implementing regulations at 41 CFR § 102-3.150. The MHCC was established by the National Manufactured Housing Construction and Safety Standards Act of 1974, 42 U.S.C. 5403 (a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulation specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register before August 4, 2016, by contacting Home Innovation Research Labs, Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will also provide an opportunity for public comment on specific matters before the MHCC.

Tentative Agenda

August 9, 2016

I. Call to Order—Chair & Designated Federal Officer (DFO)

II. Opening Remarks—Chair

A. Roll-Call—Administering Organization (AO)

B. Introductions

i. HUD Staff

ii. Guests

C. Administrative Announcements—DFO and AO

III. Approve MHCC draft minutes from January 19-21, MHCC Meeting

IV. Discussion on conduct of meeting

V. Review of Summary of DOE Proposed Rule on Manufactured Home Energy Standards (HUD Staff) DOE Power Point Summary and link to proposed rule can be found on HUD's Web site at: hud.gov/mhs

VI. Public Comments

VII. Lunch

VIII. Continue Review and Summary of DOE requests for comments on the proposed Rule

IX. Break

X. Committee recommendations on proposed rule

XI. Public Comments

XII. Wrap Up/Next Steps—DFO/AO

XIII. Adjourn

Dated: July 19, 2016.
Pamela Beck Danner,
Administrator, Office of Manufactured Housing Programs.

[FR Doc. 2016-17568 Filed 7-22-16; 8:45 am]

BILLING CODE 4210-67-P